DEPARTMENT OF TRANSPORTATION

Federal Aviation Administration

14 CFR Part 39

[Docket No. FAA-2004-18579; Directorate Identifier 2004-CE-19-AD; Amendment 39-13892; AD 2004-23-01]

RIN 2120-AA64

Airworthiness Directives; Pilatus Aircraft Ltd. Model PC-7 Airplanes

AGENCY: Federal Aviation Administration (FAA), DOT.

ACTION: Final rule; correction.

SUMMARY: This document makes a correction to Airworthiness Directive (AD) 2004-23-01, which was published in the Federal Register on November 9, 2004 (69 FR 64832), and applies to certain Pilatus Aircraft Ltd. (Pilatus) Model PC-7 airplanes with any Lear Romec RR53710B type or Lear Romec RR53710K fuel booster pump (Pilatus part number 968.84.11.401; 968.84.11.403; or 968.84.11.404) installed. We incorrectly referenced the amendment number as Amendment 39-13856. The correct amendment number is Amendment 39-13892. This action corrects the regulatory text.

DATES: The effective date of this AD remains December 27, 2004.

FOR FURTHER INFORMATION CONTACT: Doug Rudolph, Aerospace Engineer, FAA, Small Airplane Directorate, 901 Locust, Room 301, Kansas City, Missouri 64106; telephone: (816) 329-4059; facsimile: (816) 329-4090.

SUPPLEMENTARY INFORMATION:

Discussion

On September 8, 2004, FAA issued AD 2004-23-01, Amendment 39-13856 (69 FR 64832, November 9, 2004), which applies to certain Pilatus Aircraft Ltd. (Pilatus) Model PC-7 airplanes with any Lear Romec RR53710B type or Lear Romec RR53710K fuel booster pump (Pilatus part number 968.84.11.401; 968.84.11.403; or 968.84.11.404) installed.

This AD requires you to check the airplane logbook to determine whether any installed fuel booster pump has been modified with spiral wrap to protect the wire leads and has the suffix letter “B” added to the serial number of the fuel booster pump identification plate.

If any installed fuel booster pump has not been modified, you are required to inspect any installed fuel booster pump wire lead for defects; if defects are found, replace the fuel booster pump with a modified fuel booster pump with spiral wrap that protects the wire leads; or if no defects are found, install spiral wrap to protect any wire leads and add the suffix letter “B” to the serial number of the fuel booster pump identification plate.

The pilot is allowed to do the logbook check. If the pilot can positively determine that the fuel booster pump wire leads with spiral wrap are installed following the service information and that the suffix letter “B” is included in the serial number of the fuel booster pump identification plate, no further action is required.

Need for the Correction

The FAA incorrectly referenced the amendment number as Amendment 39-13856. The correct amendment number is Amendment 39-13892. This correction is needed to ensure that the amendment number is correct and to eliminate misunderstanding in the field.

Correction of Publication

Accordingly, the publication of November 9, 2004 (69 FR 64832), of Amendment 39-13856; AD 2004-23-01, which was the subject of FR Doc. 04-24717, is corrected as follows:

On page 64832, column 1, lines 18 and 19, replace Amendment 39-13856 with Amendment 39-13892.

§ 39.13 [Corrected]

On page 64833, in § 39.13 [Amended], revise the phrase “Amendment 39-13856” to read, “Amendment 39-13892”.

Action is taken herein to correct this reference in AD 2004-23-01 and to add this AD correction to § 39.13 of the Federal Aviation Regulations (14 CFR 39.13).

The effective date remains December 27, 2004.

Issued in Kansas City, Missouri, on December 8, 2004.
Sandra J. Campbell,
Acting Manager, Small Airplane Directorate, Aircraft Certification Service.

[FR Doc. 04-27320 Filed 12-13-04; 8:45 am]

BILLING CODE 4910-13-P